DEPARTMENT OF TRANSPORTATION

Federal Aviation Administration

Notice of Intent To Rule on Application 04-05-C-00-MDT To Impose and Use the Revenue From a Passenger Facility Charge (PFC) at Harrisburg International Airport, Pittsburgh, PA

AGENCY: Federal Aviation Administration (FAA), DOT.

ACTION: Notice of intent to rule on application.

SUMMARY: The FAA proposes to rule and invites public comment on the application to impose and use the revenue from a PFC at Harrisburg International Airport under the provisions of the 49 U.S.C. 40117 and part 158 of the Federal Aviation Regulations (14 CFR part 158).

DATES: Comments must be received on or before December 30, 2004.

ADDRESSES: Comments on this application may be mailed or delivered in triplicate to the FAA at the following address: Ms. Lori Ledebohm, PFC Contact, Harrisburg Airports District Office, 3905 Hartzdale Drive, Suite 508, Camp Hill, PA 17011. In addition, one copy of any comments submitted to the FAA must be mailed or delivered to Alfred Testa, Director of Aviation, of the Susquehanna Area Regional Airport Authority at the following address: Susquehanna Area Regional Airport Authority, One Terminal Drive, Harrisburg, Pennsylvania 17057

Air carriers and foreign air carriers may submit copies of written comments previously provided to the Susquehanna Area Regional Airport Authority under section 158.23 of Part 158.

FOR FURTHER INFORMATION CONTACT: Ms. Lori Ledebohm, PFC Contact, Harrisburg Airports District Office, 3905 Hartzdale Dr. Suite 508, Camp Hill, Pennsylvania 17011, 717-730-2835. The application may be reviewed in person at this same location.

SUPPLEMENTARY INFORMATION: The FAA proposes to rule and invites public comment on the application to impose and use the revenue from a PFC at Harrisburg International Airport under the provisions of the 49 U.S.C. 40117 and Part 158 of the Federal Aviation Regulations (14 CFR part 158).

On October 3, 2004, the FAA determined that the application to impose and use the revenue from a PFC submitted by Susquehanna Area Regional Airport Authority was substantially complete within the requirements of section 1258.25 of Part 158. The FAA will approve or disapprove the application, in whole or in part, no later than January 1, 2005.

The following is a brief overview of the application.

Proposed charge effective date: November 1, 2029.

Proposed charge expiration date: July 1, 2034.

Level of the proposed PFC: $4.50.

Total estimated PFC revenue: $22,859.000.

Brief description of proposed project(s):

-Construct Terminal Apron

-PFC Application Development

Class or classes of air carriers which the public agency has requested not be required to collect PFCs: Non-scheduled, on-demand air carriers.

Any person may inspect the application in person at the FAA office listed above under FOR FURTHER INFORMATION CONTACT and at the FAA regional Airports office located at: Eastern Region, Airports Division, AEA-610, 1 Aviation Plaza, Jamaica, New York 11434.

In addition, any person may, upon request, inspect the application, notice and other documents germane to the application in person at the Susquehanna Area Regional Airport Authority.

Issued in Camp Hill, PA on November 19, 2004.
Lori B.R. Ledebohm,
PFC Contact, Harrisburg Airports District Office, Eastern Region.

[FR Doc. 04-26346 Filed 11-29-04; 8:45 am]

BILLING CODE 4910-13-M